DEPARTMENT OF THE INTERIOR

National Park Service

[NPS-WASO-TRAILS-34831; PS.SPPFL0088.00.1]

Lands Chief, National Trails Land Resources Program Office; Delegation of Authority

AGENCY: National Park Service.

ACTION: Notification of delegation of authority.

SUMMARY: Delegation from the National Park Service's Director to the Lands Chief of the National Trails Land Resources Program Office (National Trails Lands Office), for the execution of the land acquisition program for National Trails administered by the National Park Service.

DATES: The effective date of this delegation is March 15, 2023.

ADDRESSES: National Park Service, Department of the Interior, 1849 C Street NW, Washington, DC 20240.

FOR FURTHER INFORMATION CONTACT: Pam McLay, Chief of Land Resources Division, National Park Service, 1849 C Street NW, Washington, DC 20240, telephone (202) 354-6954.

SUPPLEMENTARY INFORMATION: Recognizing that National Trails have unique acquisition authority and in order to streamline and create efficiencies for National Trail land transactions, the National Park Service's Director has delegated authority to the Lands Chief for the National Trails Lands Office to execute the land acquisition program for National Trails administered by the National Park Service, pursuant to the National Trails System Act of 1968, as amended. This includes contracting for acquisition of lands and related properties; accepting offers to sell to, or exchange with the United States lands or interests in lands, and executing of all necessary agreements and conveyances incidental thereto; accepting deeds conveying to the United States lands or interests in lands; approving on behalf of the National Park Service offers of settlement in condemnation cases; providing relocation assistance; and approving claims for reimbursement under Public Law 91-646, as amended. This delegation does not include establishing land acquisition priorities for the National Trails or approving acquisitions, which are delegated to the Regional Directors.

Charles F. Sams, III,
Director, National Park Service.

[FR Doc. 2023-05310 Filed 3-14-23; 8:45 am]

BILLING CODE 4312-52-P